DEPARTMENT OF AGRICULTURE

Grain Inspection, Packers and Stockyards Administration

7 CFR Part 800

RIN: 0580-AA90

United States Standards for Soybeans

AGENCY: Grain Inspection, Packers and Stockyards Administration, USDA.

ACTION: Final rule; correction.

SUMMARY: In a final rule published in the Federal Register on September 6, 2006, we amended regulations concerning the United States Standards for Soybeans. The final rule contained an error in the rule portion; inadvertently, footnote reference numbers were left off of Table 17 in 7 CFR 800.86. This document corrects that error.

DATES: Effective Date: September 1, 2007.

FOR FURTHER INFORMATION CONTACT: Becca Riese at GIPSA, USDA, 1400 Independence Avenue, SW., Washington, DC, 20250-3630; Telephone (202) 720-4116; Fax Number (202) 720-7883; e-mail Rebecca.A.Riese@usda.gov.

SUPPLEMENTARY INFORMATION: In a final rule published in the Federal Register on September 6, 2006, (71 FR 52403-52406) we amended regulations concerning the United States Standards for Soybeans, including Table 17 in 7 CFR 800.86. Inadvertently, footnote reference numbers were left off of Table 17 in 7 CFR 800.86.

In rule FR Doc. E6-14719 published on September 6, 2006, (71 FR 52403-52406) make the following correction. On page 52405, in Table 17, in the first column, insert:

(1) Footnote reference number 1 immediately following “U.S. No. 3” and

(2) footnote reference number 2 immediately following “U.S. No. 4.”

James E. Link,
Administrator, Grain Inspection, Packers and Stockyards Administration.

[FR Doc. E6-22044 Filed 12-26-06; 8:45 am]

BILLING CODE 3410-KD-P